DEPARTMENT OF LABOR

Employment and Training Administration

[TA-W-51,046]

Western Geco, LLC, Houston, Texas; Notice of Termination of Investigation

Pursuant to section 221 of the Trade Act of 1974, as amended, an investigation was initiated on March 4, 2003 in response to a worker petition filed on behalf of workers at Western Geco, LLC, Houston, Texas.

The Department issued a negative determination applicable to the petitioning group of workers on April 9, 2003 (TA-W-51,251). No new information or change in circumstances is evident which would result in a reversal of the Department's previous determination. Consequently, further investigation would serve no purpose, and the investigation has been terminated.

Signed at Washington, DC this 1st day of May 2003.
Richard Church,
Certifying Officer, Division of Trade Adjustment Assistance.

[FR Doc. 03-12568 Filed 5-19-03; 8:45 am]

BILLING CODE 4510-30-P